DEPARTMENT OF HEALTH AND HUMAN SERVICES

National Institutes of Health

National Institute of Environmental Health Sciences; Amended Notice of Meeting

Notice is hereby given of a change in the meeting of the National Institute of Environmental Health Sciences Special Emphasis Panel, October 3, 2001, 1:00 p.m. to October 3, 2001, 3:00 PM, NIEHS-East Campus, 79 T W Alexander Dr., Bldg. 4401, Rm EC-122, Research Triangle Park, NC, 27709 which was published in the Federal Register on August 30, 2001, FR 66: 45861.

This telephone conference meeting will now be held on December 3, 2001 at 1:00 pm and Dr. Linda Bass will be the Scientific Review Administrator. The meeting is closed to the public.

Dated: November 16, 2001.
LaVerne Y. Stringfield,
Director, Office of Federal Advisory Committee Policy.

[FR Doc. 01-29538 Filed 11-27-01; 8:45 am]

BILLING CODE 4140-01-M